FEDERAL COMMUNICATIONS COMMISSION

[OMB 3060-1174]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before May 4, 2015. If you anticipate that you will be submitting comments, but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-1174.

Title: Section 73.503, Licensing requirements and service; Section 73.621, Noncommercial educational TV stations; Section 73.3527, Local public inspection file of noncommercial educational stations.

Form Number: Not applicable.

Type of Review: Extension of a currently approved collection.

Respondents: Not for profit institutions.

Number of Respondents and Responses: 2,200 respondents and 30,800 responses.

Frequency of Response: Recordkeeping requirement; Annual reporting requirement; One-time reporting requirement; Third party disclosure requirement.

Estimated Time per Response: 0.25-1.5 hours.

Total Annual Burden: 17,050 hours.

Total Annual Cost to Respondents: $330,000.

Obligation to Respond: Required to obtain or retain benefits. The statutory authority for this collection of information is contained in 47 U.S.C. 151, 152, 154(i), 303, 307 and 308.

Nature and Extent of Confidentiality: There is no assurance of confidentiality provided to respondents.

Privacy Impact Assessment: No impact(s).

Needs and Uses: On April 25, 2012, the Commission adopted a Notice of Proposed Rulemaking (“NPRM”) in MB Docket 12-106, FCC 12-43, In the Matter of Noncommercial Educational Station Fundraising for Third-Party Non-Profit Organizations. Under the Commission's existing rules, a noncommercial educational (“NCE”) broadcast station may not conduct fundraising activities to benefit any entity besides the station itself if the activities would substantially alter or suspend regular programming. The NPRM proposes to relax the rules to allow NCE stations to spend up to one percent of their total annual airtime conducting on-air fundraising activities that interrupt regular programming for the benefit of third-party non-profit organizations.

A final rulemaking has not been adopted by the Commission to date. The Commission would like to keep this collection in OMB's inventory. We will receive OMB final approval once the final rulemaking is adopted by the Commission.

Federal Communications Commission.
Marlene H. Dortch,
Secretary. Office of the Secretary, Office of the Managing Director.

[FR Doc. 2015-04338 Filed 3-2-15; 8:45 am]

BILLING CODE 6712-01-P